DEPARTMENT OF DEFENSE

Office of the Secretary

[Transmittal No. 25-0D]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0D.

Dated: January 13, 2026.
Stephanie J. Bost,
Alternate OSD Federal Register Liaison Officer, Department of Defense.

BILLING CODE 6001-FR-P

BILLING CODE 6001-FR-C

Transmittal No. 25-0D

REPORT OF ENHANCEMENT OR UPGRADE OF SENSITIVITY OF TECHNOLOGY OR CAPABILITY (SEC. 36(B)(5)(C), AECA)

(i) Prospective Purchaser: Government of Belgium

(ii) Sec. 36(B)(1), AECA Transmittal No.: 22-63

Date: November 8, 2022

Implementing Agency: Air Force

(iii) Description: On November 8, 2022, Congress was notified by congressional certification transmittal number 22-63 of the possible sale, under Section 36(b)(1) of the Arms Export Control Act, of up to one hundred twenty (120) AIM-120C-8 Advanced Medium Range Air-to-Air Missiles (AMRAAM); and ten (10) AMRAAM C-8 Guidance Sections. Also included were spare AIM-120 control sections and containers; AIM-120C Captive Air Training Missiles (CATM); other spare parts, consumables, accessories, and repair/return support; classified software; books, technical documentation, and other publications; training and training equipment; munitions support and support equipment; and other related elements of logistical and program support. The estimated total cost was $380 million. Major Defense Equipment (MDE) constituted $358 million of this total.

This transmittal notifies the inclusion of the following MDE items: one hundred fifty-nine (159) AIM-120D-3 Advanced Medium Range Air-to-Air Missiles (AMRAAM); one (1) AMRAAM D-3 guidance section; and one (1) AIM-120D Integrated Test Vehicle. The following non-MDE items will also be included: weapon system support, including software; and KGV-135A COMSEC chips. The estimated total value of the new items and services is $509 million. The estimated non-MDE value will increase by $30 million to a revised $52 million. The estimated total case value will increase by $509 million to a revised $889 million. MDE constitutes $837 million of this total.

(iv) Significance: This notification is being provided because the additional MDE and non-MDE items represent an increase in capability over what was previously notified. The proposed sale will improve Belgium's capability to meet current and future threats by maintaining its F-35 fleet in combat-ready status and providing a credible deterrent to regional threats.

(v) Justification: This proposed sale will support the foreign policy and national security objectives of the United States (U.S.) by improving the security of a NATO Ally that is a force for political stability and economic progress in Europe.

(vi) Sensitivity of Technology:

The AIM-120D-series Advanced Medium Range Air-to-Air Missile (AMRAAM) is a supersonic, air-launched, aerial intercept, guided missile featuring digital technology and micro-miniature, solid-state electronics. AMRAAM capabilities include look-down/shoot-down, multiple launches against multiple targets, resistance to electronic countermeasures, and interception of high- and low-flying and maneuvering targets. The AIM-120D features a quadrangle target detection device and an electronics unit within the guidance section that performs all radar signal processing, mid-course and terminal guidance, flight control, target detection, and warhead detonation.

The KGV-135A is a high-speed, general purpose encryptor/decryptor module used for wideband data encryption.

The highest level of classification of defense articles, components, and services included in this potential sale is SECRET.

(vii) Date Report Delivered to Congress: March 3, 2025

[FR Doc. 2026-00770 Filed 1-15-26; 8:45 am]

BILLING CODE 6001-FR-P